DEPARTMENT OF TRANSPORTATION

Federal Highway Administration

Environmental Impact Statement: Ouachita Parish, LA

AGENCY: Federal Highway Administration (FHWA), DOT.

ACTION: Notice of intent.

SUMMARY: The FHWA is issuing this notice to advise the public that an Environmental Impact Statement will be prepared for a proposed bridge and highway project in Ouachita Parish, Louisiana.

FOR FURTHER INFORMATION CONTACT: Mr. Carl M. Highsmith, Project Delivery Team Leader, Louisiana Division, Federal Highway Administration, 5304 Flanders Drive, Suite A, Baton Rouge, LA 70808 Telephone: 225.757.7615.

SUPPLEMENTARY INFORMATION: The Federal Highway Administration (FHWA), in cooperation with the Louisiana Department of Transportation and Development (DOTD), will prepare an Environmental Impact Statement (EIS) on a proposal to construct the LA 143—US 165 Connector and Ouachita River Bridge in Ouachita Parish, Louisiana.

The proposed project consists of a 1.8-mile highway north of the corporate limits of West Monroe connecting Louisiana Highway 143 (LA 143) to a new bridge crossing of the Ouachita River, and a 3.7-mile highway north of the Monroe city limits connecting the new bridge to U.S. Highway 165 (US 165). The southern connection intersects with US 165 at the Forsythe Avenue Extension and the future Kansas Lane Connector. The northern connection intersects with US 165 at Fink's Hideaway Road.

The LA 143—US 165 Connector and Ouachita River Bridge project is designed to reduce traffic congestion on existing Ouachita River bridge crossings north of Interstate 20, link rural transportation facilities, and provide a segment of independent utility for a future, complete roadway loop around the cities of Monroe and West Monroe in an effort to move people and goods more efficiently across the Ouachita River and within rural portions of Ouachita Parish.

The bridge location and new highway alignments were developed in the Stage 0 Feasibility Report prepared in July 2008 and supported by the Ouachita Council of Governments Monroe Urbanized Metropolitan Transportation Plan 2035 Study. Two build alternatives proposed in the Stage 0 Report, along with the No Build alternative, will be evaluated in the EIS. An additional build alternative may also be developed for evaluation in the EIS depending upon social, economic, and environmental considerations made known through formal scoping meetings that will be held upon initiation of the project. Incorporated into and studied with the various build alternatives will be design variations of grade and alignment and a Level I Toll Study.

Letters describing the proposed action and soliciting comments will be sent to the appropriate Federal, State, and local agencies and to private organizations and citizens who have previously expressed or are known to have an interest in this proposal. Federal agencies with jurisdiction by law with regard to social, economic, and environmental impacts of this proposal will be requested to be a Cooperating Agency in this matter in accordance with 40 Code of Federal Regulations 1501.6. In addition to scoping meetings, numerous public involvement initiatives, including public meetings, newsletters, and stakeholder and local official briefings, will be held throughout the course of study. A Draft EIS will be available for public and agency review prior to a public hearing. Public notice will be given, in local newspapers, of the availability of the Draft EIS and the time and place of all public meetings and the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: June 21, 2012.
Charles W. Bolinger,
Division Administrator, Baton Rouge, Louisiana.

[FR Doc. 2012-15662 Filed 6-27-12; 8:45 am]

BILLING CODE 4910-22-P